DEPARTMENT OF AGRICULTURE

Farm Service Agency

7 CFR Part 772

RIN 0560-AG67

Servicing Minor Program Loans

AGENCY: Farm Service Agency, USDA.

ACTION: Correcting amendment.

SUMMARY: This document corrects the final regulations published December 16, 2003 (68 FR 69948), which consolidated servicing regulations for the Minor Loan Programs currently administered by the Farm Service Agency. This amendment corrects an editorial mistake relating to a regulatory reference.

EFFECTIVE DATE: April 8, 2004.

FOR FURTHER INFORMATION CONTACT: Mel Thompson, Senior Loan Officer, Farm Service Agency; telephone: 202-720-7862; Facsimile: 202-690-1196; E-mail: mel_thompson@wdc.fsa.usda.gov. Persons with disabilities who require alternative means for communication (Braille, large print, audio tape, etc.) should contact the USDA Target Center at (202) 720-2600 (voice and TDD).

SUPPLEMENTARY INFORMATION: This document corrects final regulations that consolidated and clarified the servicing policies of the Farm Service Agency's Minor Loan Programs published in the Federal Register on December 16, 2003. Section 772.8(a)(1)(ii) as promulgated states, in part, “The instrument of conveyance will contain the nondiscrimination covenants contained in 7 CFR 1951.204.” This document removes the reference to the Rural Development regulation at 7 CFR 1951.204, and replaces it with the actual language from that regulation.

For the reason stated above, 7 CFR 772.8 is corrected by making the following amendment:

PART 772—[AMENDED]

1. The authority citation continues to read as follows:

Authority: 5 U.S.C. 301, 7 U.S.C. 1989, 25 U.S.C. 490.

2. Revise paragraph 772.8(a)(1)(ii) to read as follows:

§ 772.8 Sale or exchange of security property.

(a) * * *

(1) * * *

(ii) The sale will not prevent carrying out the original purpose of the loan. The borrower must execute an Assurance Agreement as prescribed by the Agency. The covenant involved will remain in effect as long as the property continues to be used for the same or similar purposes for which the loan was made. The instrument of conveyance will contain the following nondiscrimination covenant:

The property described herein was obtained or improved with Federal financial assistance and is subject to the non-discrimination provisions of title VI of the Civil Rights Act of 1964, title IX of the Education Amendments of 1972, section 504 of the Rehabilitation Act of 1973, and other similarly worded Federal statutes, and the regulations issued pursuant thereto that prohibit discrimination on the basis of race, color, national origin, handicap, religion, age, or sex in programs or activities receiving Federal financial assistance. Such provisions apply for as long as the property continues to be used for the same or similar purposes for which the Federal assistance was extended, or for so long as the purchaser owns it, whichever is later.

Signed in Washington, DC, on March 31, 2004.
James R. Little,
Administrator, Farm Service Agency.

[FR Doc. 04-7930 Filed 4-7-04; 8:45 am]

BILLING CODE 3410-05-P